NATIONAL COMMISSION ON LIBRARIES AND INFORMATION SCIENCE

Open Business Meeting

AGENCY: U.S. National Commission on Libraries and Information Science, (NCLIS)

ACTION: Notice of meeting.

SUMMARY: The U.S. National Commission on Libraries and Information Science is holding an open business meeting to discuss Commission programs and administrative matters. Commissioners will review programs related to the Commission's strategic initiatives. Each of the Commission's task forces will share progress reports and the Commission will discuss future directions and activities. Leaders of several professional associations will describe their interest in the Commission and its work from their organizations' particular perspectives.

Date and Time: NCLIS Business Meeting—May 23, 2005, 9 a.m. until 5 p.m. and May 24, 9 a.m. until 12 noon.

ADDRESSES: On May 23: Room LJ 113, Jefferson Building, Library of Congress, 10 First Street, SE., Washington, DC 20540. On May 24: Thoroughbred Room, Hilton Washington Hotel, 1919 Connecticut Avenue, NW., Washington, DC 20009.

Status: Open meeting.

SUPPLEMENTARY INFORMATION: The business meeting is open to the public, subject to space availability. To make special arrangements for physically challenged persons, contact Kathleen Lannon, Administrative Officer, 1800 M Street, NW., Suite 350, Washington, DC 20036, e-mail klannon@nclis.gov, fax 202-606-9203 or telephone 202-606-9200.

Dated: May 6, 2005.
Trudi Bellardo Hahn,
Executive Director.

[FR Doc. 05-9445 Filed 5-11-05; 8:45 am]

BILLING CODE 7528-01-P